DEPARTMENT OF DEFENSE

Office of the Secretary

Proposed Collection; Comment Request.

AGENCY: Office of the Under Secretary of Defense (Personnel and Readiness).

ACTION: Notice.

In compliance with Section 3506(c)(2)(A) of the Paperwork Reduction Act of 1995, the Office of the Under Secretary of defense (Personnel and Readiness) announces the following proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by November 15, 2004.

ADDRESSES: Written comments and recommendations on the proposed information collection should be sent to the Department of Defense Education Activity, 4040 North Fairfax Drive, Arlington, VA 22203-1635, ATTN: Ms. Judith L. Williams.

FOR FURTHER INFORMATION CONTACT: To request more information on this proposed information collection or to obtain a copy of the proposal and associated collection instruments, please write to the above address or call at (703) 588-3143.

Title and OMB Control Number: “Department of Defense Education Activity (DoDEA) Customer Satisfaction Surveys for Sponsors and Students”; OMB Control Number 0704-0421.

Needs and Uses: The DoDEA Customer Satisfaction Surveys are a tool used to measure the satisfaction level of sponsors and students with the programs and services provided by the DoD Education Activity (DoDEA). This collection is necessary to meet DoD Reform Initiative Directive #23: Defense Agency Performance Contracts which states: “The Directors of the specified Agencies and Field Activities will submit a performance contract covering the period of the Future Years Defense Plan (FYDP) FY 2000 through FY 2005. Each performance contract shall include measures of customer satisfaction with the goods and services provided by the Agency or Field Activity, including the timeliness of deliveries of products and services.”

Affected Public: Individuals or households.

Annual Burden Hours: 3,261 hours.

Number of Respondents: 11,901.

Respondes Per Respondent: 1.

Average Burden Per Response: 15 minutes.

Frequency: Biennially.

SUPPLEMENTARY INFORMATION:

Summary of Information Collection

The DoDEA Customer Satisfaction Surveys for Sponsors and Students will be administered to all sponsors within the DoDEA school system, as well as students in grades 4-12. The survey is completely voluntary and will be administered through an on-line, web-based technology. In order to have national comparison data, the survey questions were adapted from the Phi Delta Kappa/Gallup Poll of the Public's Attitudes Toward Schools. Some questions were altered slightly so that the wording more closely matched the unique DoDEA educational experience, however, any alterations should not affect the interpretation and comparison to the national data. The surveys will give sponsors and students an opportunity to comment on their levels of satisfaction with programmatic issues related to DoD schools. Some of the topics included in the surveys are curriculum, communication, and technology. The surveys will be administered biennially.

The information derived from these surveys will be used to improve planning efforts at all levels throughout DoDEA. Schools, districts, and areas will use the survey results to gain insight into the satisfaction levels of sponsors and students, which is one of many measures used for future planning of programs and services offered to DoDEA's students. The survey results will also be used to monitor the DoDEA Community Strategic Plan.

Dated: September 8, 2004.
L.M. Bynum,
Alternate OSD Federal Register Liaison Officer, Department of Defense.

[FR Doc. 04-20721 Filed 9-14-04; 8:45 am]

BILLING CODE 5001-06-M